DEPARTMENT OF COMMERCE

International Trade Administration

[A-533-857]

Oil Country Tubular Goods From India: Final Results of Antidumping Duty Administrative Review, 2022-2023; Correction

AGENCY: Enforcement and Compliance, International Trade Administration, Department of Commerce.

ACTION: Notice; correction.

SUMMARY: The U.S. Department of Commerce (Commerce) published notice in the Federal Register of May 13, 2025, in which Commerce published the final results of the antidumping duty (AD) administrative review for oil country tubular goods from India. In this notice, Commerce did not list the correct cash deposit rate for all other producers and/or exporters.

FOR FURTHER INFORMATION CONTACT: Brian Warnes, AD/CVD Operations, Office VII, Enforcement and Compliance, International Trade Administration, U.S. Department of Commerce, 1401 Constitution Avenue NW, Washington, DC 20230; telephone: (202) 482-0028.

SUPPLEMENTARY INFORMATION:

Background

On May 13, 2025, Commerce published in the Federal Register the Final Results of the 2022-2023 AD administrative review of oil country tubular goods from India.¹ In the “Cash Deposit Requirements” section of that notice, Commerce inadvertently listed an incorrect cash deposit rate of zero percent for all other producers and/or exporters (all-others).² The correct cash deposit rate for all-others is 0.60 percent.³

¹ See Oil Country Tubular Goods from India: Final Results of Antidumping Duty Administrative Review; 2022-2023, 90 FR 20281 (May 13, 2025) (Final Results).

² Id., 90 FR at 20281.

³ See Certain Oil Country Tubular Goods from India: Notice of Correction to the Amended Final Determination and Amendment of the Antidumping Duty Order, 83 FR 59360 (November 23, 2018), identifying the amended cash deposit rate for all-others as 0.60 percent. Commerce also listed the incorrect all-others cash deposit rate in the notice of the preliminary results of the 2022-2023 AD administrative review on oil country tubular goods from India. See Oil Country Tubular Goods from India: Preliminary Results of Antidumping Duty Administrative Review; 2022- 2023, 89 FR 82223 (October 10, 2024). However, we are not making a correction to that notice as the information was superseded by the Final Results.

Correction

In the Federal Register of May 13, 2025, in FR Doc 2025-08406, on page 20281, in the second and third column, correct the first sentence of the “Cash Deposit Requirements” section to read as follows:

The following cash deposit requirements will be effective for all shipments of the subject merchandise entered, or withdrawn from warehouse, for consumption on or after the publication date of the final results of this administrative review, as provided by section 751(a)(2)(C) of the Act: (1) the cash deposit rate for Surya Roshni, Limited will be zero, the rate established in the final results of this review; (2) for previously reviewed or investigated companies not covered in this review, the cash deposit rate will continue to be the company-specific rate published for the most recent period; (3) if the exporter is not a firm covered in this or any previous review or in the original less-than-fair-value (LTFV) investigation but the manufacturer is, the cash deposit rate will be the rate established for the most recent period for the manufacturer of the merchandise; and (4) if neither the exporter nor the manufacturer is a firm covered in this or any previous review or the LTFV investigation, the cash deposit rate will continue to be the all-others rate of 0.60 percent, which is the all-others rate established by Commerce in the LTFV investigation.⁴

⁴ See Certain Oil Country Tubular Goods from India: Notice of Correction to the Amended Final Determination and Amendment of the Antidumping Duty Order, 83 FR 59360, 59361 (November 23, 2018).

Notification to Interested Parties

This notice is issued and published in accordance with sections 751(c)(5)(A) of the Tariff Act of 1930, as amended, and 19 CFR 351.213(h).

Dated: May 20, 2025.
Christopher Abbott,
Deputy Assistant Secretary for Policy and Negotiations, performing the non-exclusive functions and duties of the Assistant Secretary for Enforcement and Compliance.

[FR Doc. 2025-09442 Filed 5-23-25; 8:45 am]

BILLING CODE 3510-DS-P